DEPARTMENT OF HOMELAND SECURITY

Coast Guard

[USCG-2016-0142]

Towing Safety Advisory Committee; June 2016 Teleconference

AGENCY: Coast Guard, DHS.

ACTION: Notice of teleconference meeting; correction to day-of-the-week reference.

SUMMARY: The Coast Guard published a notice in the Federal Register on June 2, 2016, announcing a Towing Safety Advisory Committee meeting, via teleconference. That notice listed the wrong day of the week for the date of the meeting. The notice should have stated, Wednesday, June 22, 2016. This notice removes the incorrect day-of-the-week reference.

DATES: This correction is effective June 8, 2016. The Towing Safety Advisory Committee will meet, via teleconference, on Wednesday, June 22, 2016.

FOR FURTHER INFORMATION CONTACT: Mr. William J. Abernathy, Alternate Designated Federal Officer of the Towing Safety Advisory Committee, 2703 Martin Luther King Jr Ave. SE., Stop 7509, Washington, DC 20593-7509, telephone 202-372-1363, fax 202-372-8382 or william.j.abernathy@uscg.mil.

SUPPLEMENTARY INFORMATION: The Coast Guard published a document in the Federal Register on June 2, 2016 (81 FR 35375), announcing a meeting of the Towing Safety Advisory Committee via teleconference. We listed the wrong day of the week for the June 22, 2016 meeting. The Committee will meet on Wednesday, June 22, 2016. This correction removes the incorrect day-of-the-week reference.

In notice FR Doc. 2016-12963 published June 2, 2016 (81 FR 35375), make the following correction:

On page 3537, in the second column, in the second line of the DATES section, remove the word “Tuesday” and add, in its place, the word “Wednesday”.

Dated: June 2, 2016.
J.G. Lantz,
Director of Commercial Regulations and Standards, U.S. Coast Guard.

[FR Doc. 2016-13515 Filed 6-7-16; 8:45 am]

BILLING CODE 9110-04-P